DEPARTMENT OF COMMERCE

National Oceanic and Atmospheric Administration

Agency Information Collection Activities; Submission to the Office of Management and Budget (OMB) for Review and Approval; Comment Request; Application and Certification Requirements for Distributors of NOAA Electronic Navigational Charts/NOAA Hydrographic Products

AGENCY: National Oceanic & Atmospheric Administration (NOAA), Commerce.

ACTION: Notice of information collection, request for comment.

SUMMARY: The Department of Commerce, in accordance with the Paperwork Reduction Act of 1995 (PRA), invites the general public and other Federal agencies to comment on proposed, and continuing information collections, which helps us assess the impact of our information collection requirements and minimize the public's reporting burden. The purpose of this notice is to allow for 60 days of public comment preceding submission of the collection to OMB.

DATES: To ensure consideration, comments regarding this proposed information collection must be received on or before September 27, 2021.

ADDRESSES: Interested persons are invited to submit written comments to Adrienne Thomas, NOAA PRA Officer, at Adrienne.thomas@noaa.gov. Please reference OMB Control Number 0648-0508 in the subject line of your comments. Do not submit Confidential Business Information or otherwise sensitive or protected information.

FOR FURTHER INFORMATION CONTACT: Requests for additional information or specific questions related to collection activities should be directed to CAPT Edward J. Van Den Ameele, Chief, Marine Chart Division, 1315 East-West Highway, N/CS 2, Silver Spring, MD 20910, (240) 431-1030, Edward.J.Vandenameele@noaa.gov.

SUPPLEMENTARY INFORMATION:

I. Abstract

This request is for a revision and extension of a currently approved information collection.

The National Ocean Service (NOS) Office of Coast Survey manages the Certification Requirements for Distributors of NOAA Electronic Navigational Charts (NOAA ENCs®). Electronic Navigational Charts (ENC) are vector data sets that support all types of marine navigation. Originally designed for large commercial vessels using a sophisticated navigational computer called an Electronic Chart Display and Information System (ECDIS), ENCs are now also being used on simpler electronic chart systems and “chart plotters” on many types of ships and by recreational boaters. NOAA ENCs help provide real-time ship positioning, as well as collision and grounding avoidance. NOAA established a certification program for the re-distribution of official NOAA ENCs in 15 CFR part 995 in order to ensure the quality and content of official NOAA ENCs remains intact throughout the redistribution process. The certification allows entities to download, redistribute, repackage, or in some cases reformat, official NOAA ENCs and retain the NOAA ENC's official status.

The recordkeeping and reporting requirements of 15 CFR part 995 form the basis for this collection of information. This information allows the Office of Coast Survey to administer the regulation, and to better understand the marketplace resulting in products to that meet the needs of the customer in a timely and efficient manner.

II. Method of Collection

Responses from the Certified ENC Distributors are all electronic and sent via email. All distributors have an Excel spreadsheet which they submit for each quarter.

III. Data

OMB Control Number: 0648-0508.

Form Number: None.

Type of Review: Regular submission (extension of a currently approved collection).

Affected Public: Not-for-profit institutions; and business or other for-profits organizations.

Estimated Number of Respondents: 3.

Estimated Time per Response: 1 hour to provide a distribution report four times a year.

Estimated Total Annual Burden Hours: 12.

Estimated Total Annual Cost to Public: $0 in recordkeeping/reporting costs.

Respondent's Obligation: Mandatory.

Legal Authority: 15 CFR part 995.21.

IV. Request for Comments

We are soliciting public comments to permit the Department/Bureau to: (a) Evaluate whether the proposed information collection is necessary for the proper functions of the Department, including whether the information will have practical utility; (b) Evaluate the accuracy of our estimate of the time and cost burden for this proposed collection, including the validity of the methodology and assumptions used; (c) Evaluate ways to enhance the quality, utility, and clarity of the information to be collected; and (d) Minimize the reporting burden on those who are to respond, including the use of automated collection techniques or other forms of information technology.

Comments that you submit in response to this notice are a matter of public record. We will include or summarize each comment in our request to OMB to approve this ICR. Before including your address, phone number, email address, or other personal identifying information in your comment, you should be aware that your entire comment—including your personal identifying information—may be made publicly available at any time. While you may ask us in your comment to withhold your personal identifying information from public review, we cannot guarantee that we will be able to do so.

Sheleen Dumas,
Department PRA Clearance Officer, Office of the Chief Information Officer, Commerce Department.

[FR Doc. 2021-16152 Filed 7-28-21; 8:45 am]

BILLING CODE 3510-JE-P